DEPARTMENT OF EDUCATION

Applications for New Awards; Technical Assistance and Dissemination To Improve Services and Results for Children With Disabilities; Personnel Development To Improve Services and Results for Children With Disabilities; and Educational Technology, Media, and Materials for Individuals With Disabilities Programs—Postsecondary Education Center for Individuals Who Are Deaf or Hard of Hearing

AGENCY: Office of Special Education and Rehabilitative Services, Department of Education.

ACTION: Notice.

Overview Information

Technical Assistance and Dissemination to Improve Services and Results for Children with Disabilities (TA&D); Personnel Development to Improve Services and Results for Children with Disabilities (Personnel Development); and Educational Technology, Media, and Materials for Individuals with Disabilities (ETechM2) Programs—Postsecondary Education Center for Individuals who are Deaf or Hard of Hearing

Notice inviting applications for a new award for fiscal year (FY) 2016.

Catalog of Federal Domestic Assistance (CFDA) Number: 84.326D.

DATES:

Applications Available: March 4, 2016.

Deadline for Transmittal of Applications: April 18, 2016.

Deadline for Intergovernmental Review: June 17, 2016.

Full Text of Announcement

I. Funding Opportunity Description

Purpose of Program: Funding from three Department of Education (Department) programs supports this competition: The TA&D program, the Personnel Development program, and the ETechM2 program.

The purpose of the TA&D program is to promote academic achievement and to improve results for children with disabilities by providing technical assistance (TA), supporting model demonstration projects, disseminating useful information, and implementing activities that are supported by scientifically based research.

The purposes of the Personnel Development program are to: (1) Help address State-identified needs for personnel—in special education, related services, early intervention, and regular education—to work with children with disabilities; and (2) ensure that those personnel have the skills and knowledge—derived from practices that have been determined through research and experience to be successful—that are needed to serve those children.

Finally, the purposes of the ETechM2 program are to: (1) Improve results for children with disabilities by promoting the development, demonstration, and use of technology; (2) support educational activities designed to be of educational value in the classroom for students with disabilities; (3) provide support for captioning and video description that is appropriate for use in the classroom; and (4) provide accessible educational materials to students with disabilities in a timely manner.

Priority: In accordance with 34 CFR 75.105(b)(2)(v), this priority is from allowable activities specified in the statute (see sections 662(c)(2), 663(c)(8)(C), 674(b) and (c), and 681(d) of the Individuals with Disabilities Education Act (IDEA) (20 U.S.C. 1462, 1463, 1474, and 1481)).

Absolute Priority: For FY 2016 and any subsequent year in which we make awards from the list of unfunded applications from this competition, this priority is an absolute priority. Under 34 CFR 75.105(c)(3), we consider only applications that meet this priority.

This priority is:

Postsecondary Education Center for Individuals who are Deaf or Hard of Hearing.

Background:

The purpose of this priority is to fund a cooperative agreement to establish and operate a Postsecondary Education Center for Individuals who are Deaf or Hard of Hearing (Center). The Center will support postsecondary education through its work with institutions, State educational agencies (SEAs), local educational agencies (LEAs), State vocational rehabilitation (VR) agencies, VR service providers, and other relevant organizations and public agencies, to more effectively address the postsecondary, vocational, technical, continuing, and adult education (postsecondary education and training) needs of individuals who are deaf or hard of hearing, including those who have co-occurring disabilities, such as learning and emotional disabilities, and those who are English learners. The Center will foster collaboration among postsecondary institutions, SEAs, LEAs, State VR agencies, VR service providers, and other relevant organizations and public agencies to support improved outcomes for deaf or hard of hearing transition-aged youth.

Although an increasing number of individuals who are deaf or hard of hearing are attending postsecondary education and training programs, literature suggests they have poor rates of completion, as compared to their non-disabled peers, often due to inadequate postsecondary skill preparation (Convertino, Marschark, Sapere, Sarchet, & Zupan, 2009). Newman, Wagner, Cameto, and Knokey (2009) reported that, based on National Longitudinal Transition Study-2 (NLTS2) data, 72 percent of deaf or hard of hearing students enrolled in postsecondary school settings after leaving high school. Of these students, only 15 percent graduated or completed training within four years. However, these students' postsecondary completion rates rose to 53 percent with an additional four years' time (i.e., eight years after leaving high school) (Newman et al., 2011). Transition planning teams and adult agencies must therefore anticipate the likelihood that students who are deaf or hard of hearing will need an extended time period or long-term services and support to complete postsecondary education and training (Luft, 2014).

Individuals who are deaf or hard of hearing have unique communication and language barriers that require a range of accommodations for success in postsecondary education and training settings. Research, policy, and practice suggest decisions about accommodations should be made on an individual basis (Cawthon & Leppo, 2013; Marschark, 2001; U.S. Department of Education, 2005).

For example, different accommodations are needed for a student who has hearing aids or a cochlear implant and uses oral-auditory strategies, a student with a cochlear implant who uses sign language in addition to oral-auditory strategies, and a student who uses sign language only (Ferrell, Bruce, & Luckner, 2014; Marschark, 2001). Postsecondary institutions must be well-informed about relevant requirements and the various accommodations that may be appropriate for students who are deaf or hard of hearing (e.g., oral transliteration services, sign language transliteration, and sign language interpreting and transcription services).

In addition, deaf or hard of hearing students who may not pursue traditional postsecondary education may need access to appropriate job training or other postsecondary education opportunities. Luft and Huff (2011) examined the transition strengths and needs of middle and high school students who were deaf or hard of hearing and found substantial deficits in their employment and independent living skills. To ensure students successfully transition to postsecondary settings, postsecondary institutions—along with public agencies such as secondary schools, vocational rehabilitation agencies, community service agencies, centers for independent living, and one-stop centers funded under the Workforce Innovation and Opportunity Act—must provide appropriate supports and access to relevant resources.

Section 682(d)(1)(B) of IDEA requires the Secretary to ensure that, for each fiscal year, not less than $4,000,000 is provided to address the postsecondary, vocational, technical, continuing, and adult education needs of individuals who are deaf or hard of hearing. Pursuant to this requirement, in FY 2011, the Department's Office of Special Education Programs (OSEP) funded a national center to support the efforts of postsecondary institutions, working with other relevant organizations and public agencies, to more effectively address the postsecondary, vocational, technical, continuing, and adult education needs of students who are deaf or hard of hearing, so that a greater number of these students persist in, and complete, college or other postsecondary education and training programs. The center's project period is scheduled to end on September 30, 2016. OSEP believes postsecondary institutions and other relevant organizations and public agencies continue to need technical assistance and training on how to best support students who are deaf or hard of hearing. For more information about the current center, see www.pepnet.org.

Section 504 of the Rehabilitation Act of 1973, as amended, and the Americans with Disabilities Act of 1990, as amended (ADA), outline postsecondary institutions' obligations to ensure that they do not discriminate on the basis of disability. These obligations include providing academic adjustments and auxiliary aids and services for students with disabilities (28 CFR 35.160-164; 28 CFR 36.303; 34 CFR 104.44).

Given that statistics show many individuals who are deaf or hard of hearing are enrolling in mainstream postsecondary institutions (Raue & Lewis, 2011), and considering the wide range of accommodations that may be necessary to serve this low-incidence population, it is paramount that personnel at postsecondary institutions and training programs have the knowledge and skills needed to provide fully accessible learning experiences (Cawthon et al., 2014; Lang, 2002).

For example, personnel must be skilled at helping to determine appropriate accommodations for students' communication needs. Personnel must be knowledgeable about a variety of interpreting, transcription, and note-taking services and remote or onsite captioning technologies (e.g., C-Print or Communication Access Real-time Translation (CART)), as well as assistive listening devices that may serve as effective accommodations for some students who are deaf or hard of hearing (Cawthon, Nichols, & Collier, 2009). With the rapid pace of technological advancement and the increasing sophistication of technology, it is important for personnel at postsecondary institutions and other relevant organizations and public agencies to stay current on available technology and policies to ensure communication access for their deaf or hard of hearing students.

To address the diverse and complex needs of individuals with disabilities, including individuals who are deaf or hard of hearing and their families, policymakers and other professionals have stressed the importance of ensuring individuals with disabilities have access to a comprehensive set of services and supports to help them develop the skills they will need to access and succeed in postsecondary education and training settings (Federal Partners in Transition, 2015; National Agenda Steering Committee, 2005). Research suggests that better post-school outcomes for individuals with disabilities may be linked to strong and effective partnerships between agencies responsible for programs that play a key role in providing services to individuals with disabilities and their families (Federal Partners in Transition, 2015; Landmark, Ju, & Zhang, 2010; National Council on Disability, 2008; Test et al., 2009; U.S. Government Accountability Office, 2011). Currently no single system or agency is responsible for providing all the necessary supports to help individuals with disabilities develop essential skills. Individuals with disabilities, including those who are deaf or hard of hearing, often need to simultaneously access services from several different agencies to successfully meet their needs. Providing support for improved interagency collaboration at State and local levels may produce better outcomes in postsecondary education and training for individuals who are deaf or hard of hearing. The Department intends to build on current efforts to improve outcomes in postsecondary education and training for individuals who are deaf or hard hearing. The Department will fund a TA center dedicated to improving the collaboration among postsecondary institutions, SEAs, LEAs, State VR agencies, VR service providers, and other relevant organizations and public agencies.

In addition, OSEP has developed a Results-Driven Accountability (RDA) system that requires all States to develop a State Systemic Improvement Plan (SSIP) ¹ that will incorporate strategies to produce improved outcomes for students with disabilities. A number of States have identified improving post-school outcomes as the focus of their SSIP work. For success in this area, States will need access to a center that provides TA to support the implementation of their SSIP strategies to improve postsecondary education and training outcomes for students who are deaf or hard of hearing.

¹ For more information about the SSIP, see page 18 of the Part B Measurement Table under “Forms and Instructions” at www.regulations.gov/#!docket Detail; D=ED-2013-ICCD-0047. For more information about RDA, see http://www2.ed.gov/about/offices/list/osers/osep/rda/index.html.

Priority:

The purpose of this priority is to fund a Center that will support the efforts of postsecondary institutions, SEAs, LEAs, State VR Agencies, VR service providers, and other relevant organizations and public agencies, to more effectively address the postsecondary, vocational, technical, continuing, and adult education (postsecondary education and training) needs of individuals who are deaf or hard of hearing, including those who have co-occurring disabilities, such as learning and emotional disabilities, and those who are English learners.

The Center must achieve, at a minimum, the following outcomes:

(a) Increased numbers of individuals who are deaf or hard of hearing who, without requiring remedial coursework, are admitted to, persist in, and complete college or other postsecondary education and training programs, including adult basic education and developmental education programs;

(b) Improved collaboration among postsecondary institutions, SEAs, LEAs, State VR agencies, VR service providers, and other relevant organizations and public agencies so they are more effective at the following:

(1) Identifying roles, responsibilities, and procedures for outreach to individuals who are deaf or hard of hearing and who are interested in pursuing postsecondary education and training, including outreach to secondary school students who have identified postsecondary education and training goals as part of an individualized education program or individualized plan for employment;

(2) Identifying education and employment training opportunities for individuals who are deaf or hard of hearing and who are not college bound;

(3) Improving the ability of individuals who are deaf or hard of hearing to be effective self-advocates in postsecondary education and training settings; and

(4) Providing TA and services to individuals who are deaf or hard of hearing and their families;

(c) Improved capacity of postsecondary institutions, SEAs, LEAs, State VR agencies, VR service providers, and other relevant organizations and public agencies to implement evidence-based (as defined in this notice) practices and strategies designed to increase the number of individuals who are deaf or hard of hearing who, without requiring remedial coursework, are admitted to, persist in, and complete college or other postsecondary education and training;

(d) An increased body of knowledge on how to effectively utilize technology to promote access and provide accommodations (e.g., high-quality captioning, note-taking, and interpreting services) for individuals who are deaf or hard of hearing in postsecondary education and training settings; and

(e) Expanded dissemination of lessons learned from implementing evidence-based practices and strategies to inform national, State, and local efforts to improve postsecondary education and training outcomes for individuals who are deaf or hard of hearing.

In addition to these programmatic requirements, to be considered for funding under this priority, applicants must meet the application and administrative requirements in this priority. OSEP encourages innovative approaches to meet the following requirements:

(a) Demonstrate, in the narrative section of the application under “Significance of the Project,” how the proposed project will—

(1) Address the training and information needs of postsecondary institutions, SEAs, LEAs, State VR agencies, VR service providers, and other relevant organizations and public agencies for better implementing evidence-based practices and strategies that will increase the number of individuals who are deaf or hard of hearing who, without remedial coursework, are admitted to, persist in, and complete college or other postsecondary education and training, including adult basic education and developmental education programs. To meet this requirement, the applicant must—

(i) Include a project design that is evidence-based;

(ii) Present applicable national and State data demonstrating the training needs of postsecondary institutions, SEAs, LEAs, State VR agencies, VR service providers, and other relevant organizations and public agencies for better implementing evidence-based practices and strategies that will increase the success of students who are deaf or hard of hearing in postsecondary education and training; and

(iii) Identify current issues and policy initiatives in secondary transition, postsecondary education, career preparation, and employment for students who are deaf or hard of hearing; and

(2) Address the current and emerging needs of postsecondary institutions, SEAs, LEAs, State VR agencies, VR service providers, and other relevant organizations and public agencies for better implementing SSIP strategies to improve postsecondary education and training outcomes for students who are deaf or hard of hearing.

(b) Demonstrate, in the narrative section of the application under “Quality of the Project Services,” how the proposed project will—

(1) Ensure equal access and treatment for members of groups that have historically been underrepresented based on race, color, national origin, gender, age, or disability in accessing postsecondary education and training. To meet this requirement, the applicant must describe how it will—

(i) Identify the needs of intended recipients for TA and information; and

(ii) Ensure that services and products meet the needs of the intended recipients (e.g., by creating materials in formats and languages accessible to the stakeholders served by the intended recipients);

(2) Achieve its goals, objectives, and intended outcomes. To meet this requirement, the applicant must provide—

(i) Measurable intended project outcomes;

(ii) A logic model that depicts, at a minimum, the goals, activities, outputs, and outcomes of the proposed project. A logic model communicates how a project will achieve its outcomes and provides a framework for both the formative and summative evaluations of the project; and

(iii) A conceptual framework to develop project plans and activities, describing any underlying concepts, assumptions, expectations, beliefs, or theories, as well as the presumed relationships or linkages among these variables, and any empirical support for this framework;

Note: Section 77.1(c) of the Education Department General Administrative Regulations (EDGAR) contains a definition for “logic model” that incorporates the term “conceptual framework” into that definition. In the TA&D Technical Assistance and Dissemination program priorities, OSEP has chosen to keep the two concepts separate in an effort to promote a fuller description of both the theory behind the proposed project and how that theory is operationalized in a logic model that depicts how the project will work. The following Web sites provide examples for constructing logic models: www.researchutilization.org/matrix/logicmodel_resource3c.html and www.osepideasthatwork.org/logicModel/index.asp.

(3) Be based on current research and make use of evidence-based practices and strategies. To meet this requirement, the applicant must describe—

(i) The current research on the most effective ways to support students who are deaf or hard of hearing in postsecondary education and training;

(ii) The current research on the use of adult learning principles and implementation science to inform the proposed TA; and

(iii) How the proposed project will incorporate both current research identified in paragraphs (3)(i) and (ii) and evidence-based practices and strategies to facilitate the development and delivery of its products and services;

(4) Develop products, create training modules, and hold meetings to encourage collaborative activities between service providers;

(5) Provide TA that is of high quality and sufficient intensity and duration to achieve the intended outcomes of the proposed project. To address this requirement, the applicant must describe—

(i) How it proposes to identify and increase the number of students who are deaf or hard of hearing who, without requiring remedial coursework, are admitted to, persist in, and complete college or other postsecondary education and training;

(ii) Its proposed approach to universal, general TA,² which must identify the intended recipients of the products and services under this approach;

² “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,³ which must identify—

³ “Targeted, specialized TA” means TA based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach; and

(B) Its proposed approach to measure the readiness of potential TA recipients to work with the project, assessing, at a minimum, their current infrastructure, available resources, and ability to build capacity at a local level; and

(iv) Its proposed approach to intensive, sustained TA,⁴ which must identify—

⁴ “Intensive, sustained TA” means TA services often provided onsite and requiring a stable, ongoing relationship between the TA center staff and the TA recipient. “TA services” are defined as a negotiated series of activities designed to reach a valued outcome. This category of TA should result in changes to policy, program, practice, or operations that support increased recipient capacity or improved outcomes at one or more systems levels.

(A) The intended recipients of the products and services under this approach;

(B) Its proposed approach to measure the readiness of postsecondary institutions, SEAs, LEAs, State VR Agencies, VR service providers, and other relevant organizations and public agencies to work with the project, including their commitment to the initiative, alignment of the initiative to their needs, current infrastructure, available resources, and ability to build capacity at the local, district, or State level;

(C) Its proposed plan for assisting postsecondary institutions, SEAs, LEAs, State VR Agencies, VR service providers, and other relevant organizations and public agencies to build training systems that include professional development based on adult learning principles and coaching; and

(D) Its proposed plan for working with students, families, postsecondary institutions, SEAs, LEAs, State VR agencies, VR service providers, and other relevant organizations and public agencies at the State and local levels (e.g., TA providers, schools, transition coordinators, guidance counselors, career and technical education educators, Department of Labor personnel, private industry, postsecondary education professional(s)) to ensure there is communication between each level and there are systems in place to effectively address the postsecondary education and training needs of individuals who are deaf or hard of hearing, including those who have co-occurring disabilities, such as learning and emotional disabilities, and those who are English learners; and

(6) Develop products and implement services that maximize efficiency. To address this requirement, the applicant must describe—

(i) How the proposed project will use technology to achieve the intended project outcomes;

(ii) With whom the proposed project will collaborate and the intended outcome of this collaboration; and

(iii) How the proposed project will use non-project resources to achieve the intended project outcomes.

(c) In the narrative section of the application under “Quality of the Evaluation Plan,” include an evaluation plan for the project as described in the following paragraphs.

The evaluation plan must describe measures of: Progress in implementation, including the extent to which the project's products and services have reached their target population; intended outcomes or results of the project's activities in order to evaluate those activities; and how well the goals or objectives of the proposed project, as described in its logic model, have been met.

In designing the evaluation plan, the project must—

(1) Designate, with the approval of the OSEP project officer, a project liaison staff person with sufficient dedicated time, experience in evaluation, and knowledge of the project to work in collaboration with the Center to Improve Project Performance (CIPP),⁵ the Center's project director, and the OSEP project officer on the following tasks:

⁵ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise, as needed, the logic model submitted in the grant application to provide for a more comprehensive measurement of implementation and outcomes and to reflect any changes or clarifications to the model discussed at the kick-off meeting;

(ii) Refine the evaluation design and instrumentation proposed in the grant application consistent with the logic model (e.g., preparing evaluation questions about significant program processes and outcomes; developing quantitative or qualitative data collections that permit both the collection of progress data, including fidelity of implementation, as appropriate, and the assessment of project outcomes; selecting respondent samples if appropriate; designing instruments or identifying data sources; and identifying analytic strategies); and

(iii) Revise, as needed, the evaluation plan submitted in the grant application such that it clearly—

(A) Specifies the measures and associated instruments or sources for data appropriate to the evaluation questions, suggests analytic strategies for those data, provides a timeline for conducting the evaluation, and includes staff assignments for completing the plan;

(B) Delineates the data expected to be available by the end of the second project year for use during the project's intensive review for continued funding described under the heading Fourth and Fifth Years of the Project; and

(C) Can be used to assist the project director and the OSEP project officer, with the assistance of CIPP, as needed, to specify the performance measures to be addressed in the project's Annual Performance Report;

(2) Cooperate with CIPP staff in order to accomplish the tasks described in paragraph (1) of this section; and

(3) Dedicate sufficient funds in each budget year to cover the costs of carrying out the tasks described in paragraphs (1) and (2) of this section and implementing the evaluation plan.

(d) Demonstrate, in the narrative section of the application under “Adequacy of Project Resources,” how—

(1) The proposed project will encourage applications for employment from persons who are members of groups that have historically been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as appropriate; and

(ii) Timelines and milestones for accomplishing the project tasks;

(2) Key project personnel and any consultants and subcontractors will be allocated to the project and how these allocations are appropriate and adequate to achieve the project's intended outcomes;

(3) The proposed management plan will ensure that the products and services provided are of high quality; and

(4) The proposed project will benefit from a diversity of perspectives, including students, families, transition specialists, career and technical education professionals, school guidance counselors, postsecondary education professionals, VR counselors, private industry, TA providers, researchers, and policy makers, among others, in its development and operation.

(f) Address the following application requirements. The applicant must—

(1) Include, in Appendix A, a logic model as described in paragraph (b)(2)(ii) of these requirements.

(2) Include, in Appendix A, a conceptual framework for the project as described in paragraph (b)(2)(iii) of these requirements;

(3) Include, in Appendix A, person-loading charts and timelines as applicable, to illustrate the management plan described in the narrative;

(4) Include, in the budget, attendance at the following:

(i) A one and one-half day kick-off meeting in Washington, DC after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC during each year of the project period;

(iii) Two annual two-day trips to attend Department briefings, Department-sponsored conferences, and other meetings, as requested by OSEP; and

(iv) A one-day intensive review meeting in Washington, DC, during the last half of the second year of the project period;

(5) Include, in the budget, a line item for an annual set-aside of five percent of the grant amount to support emerging needs that are consistent with the proposed project's intended outcomes, as those needs are identified in consultation with OSEP.

Note: With approval from the OSEP project officer, the project must reallocate any remaining funds from this annual set-aside no later than the end of the third quarter of each budget period; and

(6) Maintain a Web site that meets government or industry-recognized standards for accessibility.

Fourth and Fifth Years of the Project:

In deciding whether to continue funding the project for the fourth and fifth years, the Secretary will consider the requirements of 34 CFR 75.253(a), as well as—

(a) The recommendation of a review team consisting of experts selected by the Secretary. This review will be conducted by OSEP during a one-day intensive meeting that will be held during the last half of the second year of the project period;

(b) The timeliness with which, and how well, the requirements of the negotiated cooperative agreement have been or are being met by the project; and

(c) Whether the quality, relevance, and usefulness of the project's products and services are aligned with the project's objectives and likely to result in the project achieving its intended outcomes.

References

Cawthon, S.W., Garberoglio, C., Caemmerer, J.M., Bond, M.P., Leppo, R.H., Schoffstall, S.J., Rainey, J.C., & Hamilton, G.A. (2014). Professional preparedness and perspectives on transition for individuals who are deaf or hard of hearing. Career Development and Transition for Exceptional Individuals. Retrieved from http://cde.sagepub.com/content/early/2014/10/16/2165143414553025.full.pdf+html.

Cawthon, S.W., & Leppo, R. (2013). Accommodations quality for students who are deaf or hard of hearing. American Annals of the Deaf, 158, 438-452.

Cawthon, S.W., Nichols, S.K., & Collier, M. (2009). Facilitating access: What information do Texas postsecondary institutions provide on accommodations and services for students who are deaf or hard of hearing? American Annals of the Deaf, 155(5), 450-460.

Convertino, C.M., Marschark, M., Sapere, P., Sarchet, T., & Zupan, M. (2009). Predicting academic success among deaf college students. Journal of Deaf Studies and Deaf Education, 14(3), 324-343.

Federal Partners in Transition Strategic Planning Committee. (2015). The 2020 Federal youth transition plan: A Federal interagency strategy. Washington, DC: U.S. Department of Labor, Office of Disability Employment Policy.

Ferrell, K.A., Bruce, S., & Luckner, J. L. (2014). Evidence-based practices for students with sensory impairments (Document No. IC-4). Retrieved from University of Florida, Collaboration for Effective Educator, Development, Accountability, and Reform Center.

Landmark, L.J., Ju, S., & Zhang, D. (2010). Substantiated best practices in transition: Fifteen plus years later. Career Development for Exceptional Individuals, 33, 165-176.

Lang, H.G. (2002). Higher education for deaf students: Research priorities in the new millennium. Journal of Deaf Studies and Deaf Education, 7(4), 267-280.

Luft, P. (2014). A national survey of transition services for deaf and hard of hearing. Career Development and Transition for Exceptional Individuals, 37(3) 177-192.

Luft, P., & Huff, K. (2011). How prepared are transition-age deaf and hard of hearing students for adult living? Results of the Transition Competence Battery. American Annals of the Deaf, 155(5), 569-579.

Marschark, M. (2001). Language development in children who are deaf: A research synthesis. Alexandria, VA: National Association of State Directors of Special Education. Retrieved from www.nasdse.org.

National Agenda Steering Committee. (2005). National agenda: Moving forward on achieving educational equality for deaf and hard of hearing students. Retrieved from www.ndepnow.org/pdfs/national_agenda.pdf.

National Council on Disability. (2008). The Rehabilitation Act: Outcomes for transition-age youth. Washington, DC: Author.

Newman, L., Wagner, M., Cameto, R., & Knokey, A. M. (2009). The post-high school outcomes of youth with disabilities up to 4 years after high school: A report from the National Longitudinal Transition Study-2 (NLTS2). Menlo Park, CA: SRI International. Retrieved from www.nlts2.org/reports/2009_04/nlts2_report_2009_04_complete.pdf.

Newman, L., Wagner, M., Knokey, A.M., Marder, C., Nagle, K., Shaver, D., Wei, X., with Cameto, R., Contreras, E., Ferguson, K., Greene, S., & Schwarting, M. (2011). The post-high school outcomes of young adults with disabilities up to 8 years after high school. A report from the National Longitudinal Transition Study-2 (NLTS2) (NCSER 2011-3005). Menlo Park, CA: SRI International. Retrieved from http://nlts2.org/reports/2011_09_02/nlts2_report_2011_09_02_complete.pdf.

Raue, K., & Lewis, L. (2011). Students with disabilities at degree-granting postsecondary institutions (NCES 2011-018). Washington, DC: National Center for Education Statistics, Institute of Education Sciences, U.S. Department of Education.

Test, D.W., Mazzotti, V.L., Mustian, A.L., Fowler, C.H., Kortering, L.J., & Kohler, P.H. (2009). Evidence-based secondary transition predictors for improving post-school outcomes for students with disabilities. Career Development for Exceptional Individuals, 32, 160-181.

U.S. Department of Education, Office for Civil Rights. (2005). Deaf students education services. Retrieved from http://www2.ed.gov/about/offices/list/ocr/docs/hq9806.html.

U.S. Government Accountability Office. (2011). Deaf and hard of hearing children: Federal support for developing language and literacy. Retrieved from www.gao.gov/assets/320/318707.pdf.

Definitions

For the purposes of this priority:

Evidence-based means supported by strong theory.

Strong theory means a rationale for the proposed process, product, strategy, or practice that includes a logic model.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1462, 1463, 1474, 1481, and 1482.

Applicable Regulations: (a) EDGAR in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian tribes.

Note: The regulations in 34 CFR part 86 apply to institutions of higher education (IHEs) only.

II. Award Information

Type of Award: Cooperative agreement.

Estimated Available Funds: Three programs plan to make available a total of $4,000,000 for this competition: $1,300,000 from the TA&D program; $1,700,000 from the Personnel Development program; and $1,000,000 from the ETechM2 program.

Contingent upon the availability of funds and the quality of applications, we may make additional awards in FY 2017 from the list of unfunded applications from this competition.

Maximum Award: We will reject any application that proposes a budget exceeding $4,000,000 or the individual program budget amounts described in the note below for a single budget period of 12 months.

Note: In each budget period of 12 months, $1,300,000 must be budgeted under the TA&D program (consistent with section 663(c)(8)(C) of IDEA); $1,700,000 must be budgeted under the Personnel Development program (consistent with section 662(c)(2) of IDEA); and $1,000,000 must be budgeted under the ETechM2 program (consistent with section 674(b) of IDEA).

Estimated Number of Awards: 1.

Note: The Department is not bound by any estimates in this notice.

Project Period: Up to 36 months with an optional additional 24 months based on performance. Applications must include plans for both the 36-month award and the 24-month extension.

III. Eligibility Information

1. Eligible Applicants: SEAs; LEAs, including public charter schools that are considered LEAs under State law; IHEs; other public agencies; private nonprofit organizations; freely associated States and outlying areas; Indian tribes or tribal organizations; and for-profit organizations.

2. Cost Sharing or Matching: This program does not require cost sharing or matching.

3. Eligible Subgrantees: (a) Under 34 CFR 75.708(b) and (c) a grantee may award subgrants—to directly carry out project activities described in its application—to the following types of entities: SEAs; LEAs, including public charter schools that are considered LEAs under State law; IHEs; other public agencies; private nonprofit organizations; freely associated States and outlying areas; Indian tribes or tribal organizations; and for-profit organizations.

(b) The grantee may award subgrants to entities it has identified in an approved application.

4. Other General Requirements: (a) Recipients of funding under this competition must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA number 84.326D.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to no more than 70 pages, using the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirements do not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirements do apply to all of Part III, the application narrative, including all text in charts, tables, figures, graphs, and screen shots.

We will reject your application if you exceed the page limit in the application narrative section or if you apply standards other than those specified in this notice and the application package.

3. Submission Dates and Times:

Applications Available: March 4, 2016.

Deadline for Transmittal of Applications: April 18, 2016.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: June 17, 2016.

4. Intergovernmental Review: This competition is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the Postsecondary Education Center for Individuals who are Deaf or Hard of Hearing competition, CFDA number 84.326D, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Postsecondary Education Center for Individuals who are Deaf or Hard of Hearing competition at www.Grants.gov. You must search for the downloadable application package for this competition by the CFDA number. Do not include the CFDA number's alpha suffix in your search (e.g., search for 84.326, not 84.326D).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the project narrative—is critical to a meaningful review of your proposal. For that reason it is important to allow yourself adequate time to upload all material as PDF files. The Department will not convert material from other formats to PDF. Additional, detailed information on how to attach files is in the application instructions.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Louise Tripoli, U.S. Department of Education, 400 Maryland Avenue SW., Room 5132, Potomac Center Plaza, Washington, DC 20202-5108. FAX: (202) 245-7590.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.326D), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.326D), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Risk Assessment and Special Conditions: Consistent with 2 CFR 200.205, before awarding grants under this competition the Department conducts a review of the risks posed by applicants. Under 2 CFR 3474.10, the Secretary may impose special conditions and, in appropriate circumstances, high risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: Under the Government Performance and Results Act of 1993 (GPRA), the Department has established a set of performance measures, including long-term measures, that are designed to yield information on various aspects of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual performance reports and additional performance data to the Department (34 CFR 75.590 and 75.591).

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Louise Tripoli, U.S. Department of Education, 400 Maryland Avenue SW., Room 5132, Potomac Center Plaza, Washington, DC 20202-5108. Telephone: (202) 245-7554.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5037, Potomac Center Plaza, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: February 29, 2016.
Michael K. Yudin,
Assistant Secretary for Special Education and Rehabilitative Services.

[FR Doc. 2016-04867 Filed 3-3-16; 8:45 am]

BILLING CODE 4000-01-P